DEPARTMENT OF HOUSING AND URBAN DEVELOPMENT

[Docket No. FR-5684-N-08]

60-Day Notice of Proposed Information Collection: HUD Environmental Review Online System (HEROS)

AGENCY: Office of Community Planning and Development, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: February 25, 2014.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Danielle Schopp, Director, Office of Environment and Energy, Department of Housing and Urban Development, 451 7th Street SW., Room 7250, Washington, DC 20410-7000. For telephone and email communication, contact Elizabeth Zepeda, Environmental Planning Division, (202) 402-3988 or email: elizabeth.g.zepeda@hud.gov. This phone number is not toll-free. Hearing or speech-impaired individuals may access this number via TTY by calling the toll-free Federal Information Relay Service at 1-800-877-8339. Copies of available documents submitted to OMB may be obtained from Ms. Pollard.

SUPPLEMENTARY INFORMATION: This notice informs the public that HUD is seeking approval from OMB for the information collection described in Section A.

A. Overview of Information Collection

Title of Information Collection: HUD Environmental Review Online System (HEROS).

OMB Approval Number: 2506-New.

Type of Request: New.

Description of the need for the information and proposed use: 224 CFR Part 58, “Environmental Review Procedures for Entities Assuming HUD Environmental Responsibilities” requires units of general local government receiving HUD assistance to maintain a written environmental review record for all projects receiving HUD funding documenting compliance with the National Environmental Policy Act (NEPA), the regulations of the Council on Environmental Quality, related federal environmental laws, executive orders, and authorities, and Part 58 procedure. Various laws that authorize this procedure are listed in 24 CFR 58.1(b).

In the past, HUD recipients were allowed to prepare their environmental review records using HUD recommended formats or equivalent formats. Now, HUD is developing a new online tool called the HUD Environmental Review Online System (HEROS), which will allow users to complete, store, and submit their environmental review records online. HUD's intention is HEROS will improve HUD's environmental reviews in a number of ways. First, it will replace HUD's many environmental review forms and requirements with one single format housed online with guidance integrated throughout to simplify the process and assist new employees in the preparation of their reviews. Second, HUD plans to increase transparency and overall compliance with NEPA by posting many environmental review records online for public review through HEROS. Finally, storing recipients' records in HEROS will allow HUD to collect data on environmental compliance for the first time. Once completed, HUD intends to make HEROS the only permitted format in most cases.

24 CFR Part 50, “Protection and Enhancement of Environmental Quality,” implements procedures for HUD to perform environmental reviews for projects where Part 58 is not permitted by law. Under Part 50, HUD staff complete the environmental review records, but they may use any information supplied by an applicant or contractor, provided HUD independently evaluates the information and is responsible for its accuracy and prepares the environmental finding. There is no current format for applicants and contractors to submit required information, but HEROS would allow these parties to submit environmental information to HUD staff through the system as well. HUD staff will then use HEROS to complete the environmental review record.

Respondents (i.e. affected public): The respondents are state and local governments receiving HUD funding who are required to complete environmental reviews.

Estimation of the total number of hours to prepare the information collection including number of respondents, frequency of response and hours of response:

Information collection | Number of respondents | Frequency of response | Responses per annum | Burden hour per response | Annual burden hours | Hourly cost per response | Annual cost
Total | 2,500 | 5 | 12,500 | 1 | 12,500 | 30 | $375,000

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: December 19, 2013.
Mark Johnston,
Deputy Assistant Secretary for Special Needs Program.

[FR Doc. 2013-31037 Filed 12-26-13; 8:45 am]

BILLING CODE 4210-67-P